DEPARTMENT OF COMMERCE

Foreign-Trade Zones Board

[B-21-2024]

Foreign-Trade Zone (FTZ) 41, Notification of Proposed Production Activity; Mercury Marine; (Electric Marine Outboard and Inboard Motors); Fond Du Lac, Wisconsin

The Port of Milwaukee, grantee of FTZ 41, submitted a notification of proposed production activity to the FTZ Board (the Board) on behalf of Mercury Marine, located in Fond Du Lac, Wisconsin within Subzone 41H. The notification conforming to the requirements of the Board's regulations (15 CFR 400.22) was received on May 9, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: electric marine outboard and inboard motors of various wattages; electric marine motor powerheads; transom bracket assemblies; and electric marine motor tiller handles (duty rate ranges from duty-free to 3.7%).

The proposed foreign-status materials/components include: glycol pumps; heat exchange reservoirs; bearing carriers with roller bearings; unfinished or non-marinized outboard or inboard electric motors (electric motors not ready for use as marine motors); electric steering actuators; electric tillers; motor spacers; stator motors; rotors; battery chargers; inverters; printed circuit board assemblies; plastic, aluminum, and steel inverter and charger housings; lithium-ion batteries; battery parts, mounts, holders, and contactors; printed circuit boards; isolation monitor; high-voltage connectors; charging ports; power distribution boxes (also known as junction boxes); power centers; and water pump drive control units (duty rate ranges from duty-free to 4.5%). The request indicates that certain materials/components may be subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is June 25, 2024.

A copy of the notification will be available for public inspection in the “Online FTZ Information System” section of the Board's website.

For further information, contact Kolade Osho at Kolade.Osho@trade.gov.

Dated: May 10, 2024.
Elizabeth Whiteman,
Executive Secretary.

[FR Doc. 2024-10706 Filed 5-15-24; 8:45 am]

BILLING CODE 3510-DS-P